DEPARTMENT OF THE INTERIOR

National Park Service

Notice of Inventory Completion for Native American Human Remains and Associated Funerary Objects in the Possession of the U.S. Department of Defense, Army Corps of Engineers, Vicksburg District, Vicksburg, MS

AGENCY: National Park Service, Interior.

ACTION: Notice.

Notice is hereby given in accordance with provisions of the Native American Graves Protection and Repatriation Act (NAGPRA), 43 CFR 10.9, of completion of an inventory of human remains in the possession of the U.S. Department of Defense, Army Corps of Engineers, Vicksburg District, Vicksburg, MS.

This notice is published as part of the National Park Service’s administrative responsibilities under NAGPRA, 43 CFR 10.2 (c). The determinations within this notice are the sole responsibility of the museum, institution, or Federal agency that has control of these Native American human remains. The National Park Service is not responsible for the determinations within this notice.

A detailed assessment of the human remains was made by professional staff of the National Museum of Natural History, Smithsonian Institution, Washington, D.C., and Coastal Environments, Inc., Baton Rouge, LA, under contract to the Army Corps of Engineers, Vicksburg District, in consultation with representatives of the Caddo Indian Tribe of Oklahoma.

In 1977, human remains representing a minimum of eight individuals were removed from the Hanna site (16RR4), Red River Parish, LA, by New World Research, Inc., prior to construction of the Red River Waterway project. In 1982, control of the collections that resulted from these excavations during the Red River Waterway project was transferred from the Army Corps of Engineers, New Orleans District to the Vicksburg District. No known individuals were identified. No funerary objects are present.

Based on radiocarbon dates, these burials are dated to A.D. 1000-1300. Archeological and geographic evidence indicate that during this time period, the Hanna site was occupied by the Caddo people, who are represented today by the Caddo Indian Tribe of Oklahoma.

Based on the above-mentioned information, officials of the Army Corps of Engineers’ Vicksburg District have determined that, pursuant to 43 CFR 10.2 (d)(1), the human remains listed above represent the physical remains of eight individuals of Native American ancestry. Officials of the Army Corps of Engineers’ Vicksburg District also have determined that, pursuant to 43 CFR 10.2 (e), there is a relationship of shared group identity that can be reasonably traced between these Native American human remains and the Caddo Indian Tribe of Oklahoma.

This notice has been sent to officials of the Caddo Indian Tribe of Oklahoma; Chickasaw Nation, Oklahoma; Choctaw Nation of Oklahoma; Coushatta Tribe of Louisiana; Jena Band of Choctaw Indians, Louisiana; Mississippi Band of Choctaw Indians, Mississippi; Quapaw Tribe of Indians, Oklahoma; and Tunica-Biloxi Indian Tribe of Louisiana. Representatives of any other Indian tribe that believes itself to be culturally affiliated with these human remains should contact Mr. James Wojtala, Environmental Analysis Section, Environmental and Economic Analysis Branch, Planning, Programs, and Project Management Division, Vicksburg District, U.S. Army Corps of Engineers, 4155 Clay Street, Vicksburg, MS 39183-3435, telephone (601) 631-5428, before August 8, 2002. Repatriation of the human remains to the Caddo Indian Tribe of Oklahoma may begin after that date if no additional claimants come forward.

Dated: May 1, 2002.
Robert Stearns,
Manager, National NAGPRA Program.

[FR Doc. 02-17087 Filed 7-8-02; 8:45 am]

BILLING CODE 4310-70-S